MILLENNIUM CHALLENGE CORPORATION

Section 614 of the Millennium Challenge Act of 2003 (Pub. L. 108-199, Division D); FR 04-09; Notice of July 27, 2004, MCC Public Outreach Meeting

AGENCY: Millennium Challenge Corporation.

Time and Date: 10:30-11:30 a.m., July 27, 2004.

Place: General Services Administration, main auditorium, 1800 F Street, NW., Washington, DC.

FOR FURTHER INFORMATION CONTACT: Information on the meeting may be obtained from Cassandra Jastrow at 202-521-3854.

Status: Meeting will be open to the public.

Matters to be Considered: The Millennium Challenge Corporation (MCC) will hold a public outreach meeting on July 27, 2004. The MCC CEO and MCC staff will update interested members of the public on MCC operations to date, including the MCC staff visits to MCC eligible countries for FY '04, and the selection of the MCC candidate countries for FY '05.

Due to security requirements at the meeting location, all individuals wishing to attend the meeting are encouraged to arrive at least 20 minutes before the meeting begins and must comply with all relevant security requirements of the General Services Administration. Seating will be available on a first come, first served basis.

Dated: July 21, 2004.
John C. Mantini,
Assistant General Counsel, Millennium Challenge Corporation.

[FR Doc. 04-16961 Filed 7-21-04; 2:04 pm]

BILLING CODE 9210-01-P